DEPARTMENT OF AGRICULTURE

Animal and Plant Health Inspection Service

[Docket No. 02-098-1]

Giant Salvinia; Availability of an Environmental Assessment

AGENCY: Animal and Plant Health Inspection Service, USDA.

ACTION: Notice of availability and request for comments.

SUMMARY: We are advising the public that the Animal and Plant Health Inspection Service has prepared an environmental assessment relative to a proposed field release of the non-indigenous salvinia weevil for the biological control of the aquatic weed giant salvinia. The environmental assessment documents our review and analysis of environmental impacts associated with widespread release of this agent. We are making the environmental assessment available to the public for review and comment.

DATES: We will consider all comments that we receive on or before December 2, 2002.

ADDRESSES: You may submit comments by postal mail/commercial delivery or by e-mail. If you use postal mail/commercial delivery, please send four copies of your comment (an original and three copies) to: Docket No. 02-098-1, Regulatory Analysis and Development, PPD, APHIS, Station 3C71, 4700 River Road Unit 118, Riverdale, MD 20737-1238. Please state that your comment refers to Docket No. 02-098-1. If you use e-mail, address your comment to regulations@aphis.usda.gov. Your comment must be contained in the body of your message; do not send attached files. Please include your name and address in your message and “Docket No. 02-098-1” in the subject line.

You may read any comments that we receive on the environmental assessment in our reading room. The reading room is located in room 1141 of the USDA South Building, 14th Street and Independence Avenue SW., Washington, DC. Normal reading room hours are 8 a.m. to 4:30 p.m., Monday through Friday, except holidays. To be sure someone is there to help you, please call (202) 690-2817 before coming.

APHIS documents published in the Federal Register, and related information, including the names of organizations and individuals who have commented on APHIS dockets, are available on the Internet at http://www.aphis.usda.gov/ppd/rad/webrepor.html.

FOR FURTHER INFORMATION CONTACT: Dr. Tracy A. Horner, Environmental Services, PPD, APHIS, 4700 River Road Unit 149, Riverdale, MD 20737-1228; (301) 734-5213.

SUPPLEMENTARY INFORMATION:

Background

Giant salvinia (Salvinia molesta) is a free-floating aquatic fern, native to South America, with a tremendous growth rate and the potential to significantly affect water-reliant agricultural industries and recreation and the ecology of freshwater habitats throughout much of the United States.

Giant salvinia reproduces vegetatively through fragmenting and from dormant buds breaking away. The colonizing or immature stage of giant salvinia is characterized by small leaves that lie flat upon the water. As plant growth accelerates, the leaves become larger, crowding occurs, and the plants are pushed upright. Mats may grow to a meter thick and can cover large areas.

The Animal and Plant Health Inspection Service (APHIS) listed giant salvinia as a noxious weed in 1983. Under APHIS' regulations, no person may move giant salvinia into or through the United States, or interstate, unless he or she obtains a permit for the movement from APHIS.

Because giant salvinia is a free-floating plant, it disperses by passive means (water currents and wind) and by “hitchhiking.” Animals may carry the plants over short distances, but humans can spread it widely on fishing gear and boating equipment. Intercontinental dispersal and dispersal within the United States have probably occurred when giant salvinia was sold in the nursery trade, either intentionally as a plant for aquaria or for ponds, or unintentionally when it “hitchhiked” with other aquatic plants collected for academic study or for use in aquaria or ponds. Although native to southeastern Brazil, giant salvinia is now found in North America, South America, Africa, Asia, Australia, New Guinea, and Oceania.

In the past several years, giant salvinia has been detected in the United States, mostly in association with the nursery trade in aquatic plants. Generally, detections have been in small, confined sites and are currently contained or have been eradicated. Such detections have occurred in Alabama, Arizona, Florida, Hawaii, Indiana, Louisiana, Maryland, Missouri, North Carolina, South Carolina, Texas, and Virginia. Most recently, giant salvinia was found in the Toledo Bend Reservoir and the surrounding areas in Louisiana and eastern Texas. As a result of this infestation, APHIS prepared an environmental assessment (EA) and has issued permits for the environmental release of the non-indigenous salvinia weevil (Cyrtobagous salviniae) into the limited area of the Toledo Bend Reservior.

APHIS has now received a permit application for additional releases of the salvinia weevil into other areas of the continental United States beyond the area considered in the existing APHIS EA. The applicant proposes to release the salvinia weevil to reduce the severity and extent of giant salvinia infestation in the United States. The salvinia weevil is native to Brazil, Bolivia, and Paraguay. Salvinia weevil larvae tunnel within the rhizomes of giant salvinia, causing them to disintegrate. They also tunnel in the leaf buds and adults eat leaves and leaf buds, suppressing growth and vegetative propagation of this sterile weed. This insect has successfully controlled giant salvinia in 12 countries over 3 continents.

APHIS' review and analysis of the proposed action and its alternatives are documented in detail in an EA entitled, “Field Release of the Salvinia Weevil, Cyrtobagous salviniae Calder and Sands (Curculionidae: Coleoptera) for Control of Giant Salvinia, Salvinia molesta Mitchell (Hydropteridales: Salviniaceae)” (August 2002). We are making the EA available to the public for review and comment. We will consider all comments that we receive on or before the date listed under the heading DATES at the beginning of this notice.

The EA may be viewed on the Internet at http://www.aphis.usda.gov/ppq/ by following the link for “Documents/Forms Retrieval System” then clicking on the triangle beside “6—Permits—Environmental Assessments,” and selecting document number 0001. You may request paper copies of the EA by calling or writing to the person listed under FOR FURTHER INFORMATION CONTACT. Please refer to the title of the EA when requesting copies. The EA is also available for review in our reading room (information on the location and hours of the reading room is listed under the heading ADDRESSES at the beginning of this notice).

The EA has been prepared in accordance with: (1) The National Environmental Policy Act of 1969 (NEPA), as amended (42 U.S.C. 4321 et seq.), (2) regulations of the Council on Environmental Quality for implementing the procedural provisions of NEPA (40 CFR parts 1500-1508), (3) USDA regulations implementing NEPA (7 CFR part 1), and (4) APHIS' NEPA Implementing Procedures (7 CFR part 372).

Done in Washington, DC, this 28th day of October, 2002 .
Peter Fernandez,
Acting Administrator, Animal and Plant Health Inspection Service.

[FR Doc. 02-27684 Filed 10-30-02; 8:45 am]

BILLING CODE 3410-34-P